COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Effective Date: 5/18/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 3/6/2015 (80 FR 12156) and 3/13/2015 (80 FR 13351-13352), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Product Name/NSN: Binder, Vinyl/7510-00-NIB-0588.

Mandatory Source of Supply: ForSight Vision, York, PA.

Contracting Activity: General Services Administration, New York, NY.

Product Name/NSN: Binder, Round Ring, Clear Overlay, Pockets, Brown, 1 1/2″ Capacity, Letter Size/7510-01-519-4361.

Mandatory Source of Supply: South Texas Lighthouse for the Blind, Corpus Christi, TX.

Contracting Activity(s): General Services Administration, New York, NY.

Department of Veterans Affairs, NAC, Hines, IL.

Product Name/NSN(s): Bottle, Pharmaceutical, White, Screw Cap.

6530-00-NIB-0129—60cc

6530-00-NIB-0130—100cc

6530-00-NIB-0131—150cc

6530-00-NIB-0132—300cc

6530-00-NIB-0133—500cc

Mandatory Source of Supply: Alphapointe, Kansas City, MO.

Contracting Activity: Department of Health and Human Services, Division of Contract & Grants Operations, Washington, DC.

Product Name/NSN(s): Cap, Operating, Surgical.

6532-00-250-5041

6532-00-250-5042

Mandatory Source of Supply: Allied Health Care Services, Clarks Summit, PA.

Contracting Activity: Defense Logistics Agency Troop Support, Philadelphia, PA.

Barry S. Lineback,
Director, Business Operations.

[FR Doc. 2015-08847 Filed 4-16-15; 8:45 am]

BILLING CODE 6353-01-P